DEPARTMENT OF LABOR

Employment and Training Administration

[TA-W-41,255]

American Greetings Corporation, Corbin, KY; Notice of Negative Determination Regarding Application for Reconsideration; A Corrected Republication in Full

A corrected republication in full is necessary for the Notice of Negative Determination Regarding Application for Reconsideration applicable to workers of American Greetings Corporation, Corbin, Kentucky, TA-W-41,455. The notice was published in the Federal Register on July 9, 2002 (FR 67 45546), FR Document 02-17147. The word “not” was inadvertently omitted from the decision, and this correction is issued to insert the word “not” in the third paragraph, 4th line between the words “did” and “contribute”. The notice is republished as follows:

By application received on June 6, 2002 and June 7, 2002, a worker and the Teamsters, Local 89, respectively, requested administrative reconsideration of the Department's negative determination regarding eligibility to apply for Trade Adjustment Assistance (TAA), applicable to workers and former workers of the subject firm. The denial notice was signed on May 13, 2002, and published in the Federal Register on June 4, 2002 (67 FR 38521).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of American Greetings Corporation, Corbin, Kentucky was denied because the “contributed importantly” group eligibility requirement of Section 222(3) of the Trade Act of 1974, as amended, was not met. Increased imports did not contribute importantly to worker separations. The denial was based on Corbin, Kentucky production of printed greeting card sheets being consolidated with another American Greetings Corporation domestic production facility. The company did not import printed greeting card sheets during the relevant period.

The petitioners allege that American Greetings Corporation has been forced to restructure the company in order to cut costs, which resulted in lost jobs at the Corbin plant over a three year period, leading to the final closing of the subject plant. The petitioners further allege that the jobs lost at the Corbin plant is the result of American Greetings moving manufacturing production (candles, party goods, print greeting cards) from the Corbin plant to China, Mexico, Taiwan and Hong Kong. A copy of a label attached to the petitioner(s) request depicts that a product produced in China was imported directly to American Greetings Corp., Corbin, Kentucky.

A review of the initial decision and recent clarification by the company indicate there was no decline in the firm's customer base. Any declines in plant sales or production (party goods, gift wrap and bows, candles, printed greeting card sheets) are due to shifts in plant production to other domestic locations. That is, virtually all plant production was shifted to other domestic sources, except for a small portion of printed greeting card sheets that were ordered from a foreign source and scheduled to enter the United States beyond the relevant period of the investigation. In any event, the amount of printed greeting card sheets to be imported is relatively low and would not be considered a major contributing factor to the layoffs at the subject firm.

Further review and contact with the company shows that the preponderance in the declines in employment at the subject plant is related to other factors unrelated to imported products “like or directly competitive” with what the subject plant produced. That is, internet card competition and cost cutting measures such as the elimination of some high cost product lines and the consolidation of subject plant production to other affiliated domestic locations to cut costs are the dominant factors leading to the layoffs at the subject plant.

The Department contacted the company regarding a label attached and labels referenced in the petitioner's request for reconsideration. The company indicated that some of the products produced by the subject plant have been intermittently imported, but the amount of each type of product imported was negligible during the relevant period.

In a further allegation by the petitioner, it is indicated that the subject plant candle production was shifted to China and imported back to the United States. The company indicated candles imported back to the United States were negligible during the relevant period.

Conclusion

After review of the application and investigative findings, I conclude that there has been no error or misinterpretation of the law or of the facts which would justify reconsideration of the Department of Labor's prior decision. Accordingly, the application is denied.

Signed at Washington, DC this 21st day of June 2002.
Edward A. Tomchick,
Director, Division of Trade Adjustment Assistance.

[FR Doc. 02-18634 Filed 7-23-02; 8:45 am]

BILLING CODE 4510-30-P